DEPARTMENT OF HEALTH AND HUMAN SERVICES

Administration for Children and Families

Proposed Information Collection Activity; Comment Request

Title: Study of Early Head Start-Child Care Partnerships.

OMB No.: New Collection.

Description: The Administration for Children and Families (ACF) in the Department of Health and Human Services (HHS) has awarded 275 Early Head Start expansion and Early Head Start-child care partnership grants in 50 states; Washington, DC; Puerto Rico; and the Northern Mariana Islands. These grants will allow new or existing Early Head Start programs to partner with local child care centers and family child care providers to expand high-quality early learning opportunities for infants and toddlers from low-income families.

ACF is proposing to conduct a descriptive study of the new partnership grantees to document the characteristics and features of partnerships and the activities that aim to improve professional development and quality of services and better meet the needs of families. The study will focus on the grantees that have received funds for Early Head Start-child care partnership grants.

The proposed data collection for the descriptive Study of Early Head Start-Child Care Partnerships will include two components: (1) Surveys of 311 partnership grantee and delegate agency directors and a randomly selected sample of 933 child care partners, and (2) in-depth follow-up case studies of 12 purposively selected partnerships.

The goal of this work is to collect descriptive information about partnership grantees and delegate agencies, child care partners, and services and quality improvement activities implemented as part of the partnerships and explore how particular partnership models operate. These data will be used to describe the national landscape of partnerships, fill a knowledge gap about partnership models implemented in the field, lay the groundwork for future research, and provide information to inform technical assistance and actions aimed at informing the Early Head Start-child care partnerships grant initiative.

Respondents: Partnership grantee and delegate agency directors; child care partner managers/owners; partnership staff who focus on coordinating activities among partners, monitoring compliance with the Head Start Program Performance Standards, and providing technical assistance and training; frontline staff; parents; and other state and local stakeholders (such as staff from child care resource and referral agencies or child care subsidy administrators).

Annual Burden Estimates: The following instruments are proposed for public comment under this 60-Day Federal Register Notice.

Instrument | Total number of respondents | Annual number of respondents | Number of responses per respondent | Average burden hours per response | Annual burden hours
1. Partnership grantee and delegate agency director survey | 311 | 156 | 1 | 1 | 156
2. Child care partner survey | 933 | 467 | 1 | 0.50 | 234
3. Interview topic guide:
Partnership grantee and delegate agency directors | 12 | 6 | 1 | 1.5 | 9
Partnership staff | 36 | 18 | 1 | 1 | 18
State and local stakeholders | 48 | 24 | 1 | 1 | 24
4. Parent focus group guide | 96 | 48 | 1 | 1.5 | 72
5. Child care center director focus group guide | 96 | 48 | 1 | 1.5 | 72
6. Child care center teacher focus group guide | 96 | 48 | 1 | 1.5 | 72
7. Family child care provider focus group guide | 48 | 24 | 1 | 1.5 | 36
8. Partnership grantee and delegate agency director questionnaire | 12 | 6 | 1 | 2 | 12
9. Child care partner questionnaire | 180 | 90 | 1 | 0.33 | 30

Estimated Total Annual Burden Hours: 735.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research and Evaluation, 370 L'Enfant Promenade SW., Washington, DC 20447, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert Sargis,
Reports Clearance Officer, Administration for Children and Families.

[FR Doc. 2015-13698 Filed 6-4-15; 8:45 am]

BILLING CODE 4184-22-P